DEPARTMENT OF COMMERCE

International Trade Administration

Proposed Information Collection; Comment Request; Survey of International Air Travelers

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 21, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Richard Champley or Ron Erdmann, ITA's Office of Travel & Tourism Industries (OTTI), Phone: (202) 482-0140, and fax: (202) 482-2887. E-Mail: Richard.Champley@trade.gov or Ron.Erdmann@trade.gov.

SUPPLEMENTARY INFORMATION:

I. Abstract

The “Survey of International Air Travelers” (Survey) program, administered by the Office of Travel and Tourism Industries (OTTI) of the International Trade Administration provides source data required to (1) estimate international travel and passenger fare exports, imports and the trade balance for the United States, (2) comply with the U.S. Travel Promotion Act of 2009 (Pub. L. 111-145), collect, analyze and report information to the Corporation for Travel Promotion (CTP), and support the National Export Initiative (NEI) to double exports for the country, (3) to comply with the 1961, 1981, and 1996 travel and tourism related acts to collect and publish comprehensive international travel and tourism, statistics and other marketing information, and (4) support the continuation of the Travel & Tourism Satellite Accounts for the United States, which provide the only spending and employment figures for the industry.

The Survey program contains the core data that is analyzed and communicated by OTTI with other government agencies, associations and businesses that share the same objective of increasing U.S. international travel exports. The Survey assists OTTI in assessing the economic impact of international travel on state and local economies, providing visitation estimates, key market intelligence, and identifying traveler and trip characteristics. The U.S. Department of Commerce assists travel industry enterprises to increase international travel and passenger fare exports for the country as well as outbound travel on U.S. carriers. The Survey program provides the only available estimates of nonresident visitation to the states and cities within the United States, as well as U.S. resident travel abroad.

A new survey instrument (questionnaire) (English version plus its translations into eleven foreign languages) has been developed that reflects input from over 70 respondents, including:

• Travel Industry (airlines, travel associations, destinations, lodging); Consultants; Financial Firms; Educational Institutions; and U.S. Government Agencies

This new Survey questionnaire reflects changes in various questions relating to:

• Trip Purpose; Payment Methods; Booking/Information Sources; additional package components, health care/vaccinations/travel insurance information; Additional transportation used responses; Assessment of the Visitor's Experience; and Intentions for Further Travel to the United States; Ethnicity/race.

Survey questions relating to a traveler's general impression of their airline carrier, flight connections, several airline rating attributes, their baggage delivery wait time, fewer activities, number of trips in the last five years, and whether they had personal safety concerns have been eliminated from the new Survey questionnaire.

II. Method of Collection

Within the “Survey of International Air Travelers (Survey)” program, the majority of the passenger surveys are collected in U.S. departure gate areas of U.S. airports. There is a small portion of all passenger surveys that are collected on-board flights which have departed the United States (except to Canada). U.S. and foreign flag airlines that voluntarily participate in the Survey program enable this collection in either U.S. departure gate areas or on-board flights.

III. Data

OMB Control Number: 0625-0227.

Form Number(s): None.

Type of Review: Regular submission (extension and revision of a currently approved information collection).

Affected Public: Individuals or households.

Estimated Number of Respondents: 99,400.

Estimated Time per Response: 15 minutes.

Estimated Total Annual Burden Hours: 24,850.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 14, 2011.
Gwellnar Banks,
Management Analyst, Office of the Chief Information Officer.

[FR Doc. 2011-24050 Filed 9-19-11; 8:45 am]

BILLING CODE 3510-DS-P